DEPARTMENT OF THE INTERIOR

Fish and Wildlife Service

[FWS-R8-ES-2023-N080; FXES11130800000-234-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before November 6, 2023.

ADDRESSES: Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
799568 | Dana Kamada, San Clemente, California | Southwestern willow flycatcher (Empidonax traillii extimus) Least Bell's vireo (Vireo bellii pusillus) | CA | Survey, locate and monitor nests; remove brown-headed cowbird chicks and eggs from parasitized nests; capture, handle, measure, weigh, band, color-band, and release | Renew.
08086D | Santa Clara Valley Water District, San Jose, California | California Ridgway's rail (Rallus obsoletus obsoletus) | CA | Survey using recorded vocalizations | Renew.
200339 | Sarah Foster, Sacramento, California | California Ridgway's rail (Rallus obsoletus obsoletus) California tiger salamander (Ambystoma californiense), Sonoma County and Santa Barbara County distinct population segments | CA | Survey using recorded vocalizations; survey, capture, handle, and release | Renew.
74785A | Barry Nerhus, Fullerton, California | light-footed Ridgway's rail (Rallus obsoletus levipes) | CA | Survey using recorded vocalizations | Renew.
77123D | Pim Laulikitnont-Lee, San Francisco, California | California Ridgway's rail (Rallus obsoletus obsoletus) | CA | Survey using recorded vocalizations | Amend
PER4319410 | Tito Abbo, Riverside, California | Del Mar manzanita (Arctostaphylos glandulosa ssp. crassifolia) | CA | Remove and reduce to possession | New.
073205 | Cristina Sandoval, Goleta, California | California least tern (Sternula antillarum browni) | CA | Survey, locate and monitor nests; use decoys; and play recorded vocalizations | Renew.
053598 | Nicole Kimball, Twentynine Palms, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) Quino checkerspot butterfly (Euphydryas editha quino) | CA | Survey, capture, handle, release, collect adult vouchers, and collect branchiopod resting eggs | Renew.
039640 | Kristopher Alberts, Carlsbad, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) Southwestern willow flycatcher (Empidonax traillii extimus) Quino checkerspot butterfly (Euphydryas editha quino) | CA, NV | Survey, survey using recorded vocalizations, capture, handle, release, collect adult vouchers, and collect branchiopod resting eggs | Renew.
051248 | Paul Lemons, San Diego, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) Southwestern willow flycatcher (Empidonax traillii extimus) Quino checkerspot butterfly (Euphydryas editha quino) | CA | Survey, survey using recorded vocalizations, capture, handle, release, collect adult vouchers, and collect branchiopod resting eggs | Renew.
053379 | Christine Tischer, Orange, California | California least tern (Sternula antillarum browni) Conservancy fairy shrimp (Branchinecta conservatio) Least Bell's vireo (Vireo bellii pusillus) Longhorn fairy shrimp (Branchinecta longiantenna) Vernal pool tadpole shrimp (Lepidurus packardi) Riverside fairy shrimp (Streptocephalus woottoni) San Diego fairy shrimp (Branchinecta sandiegonensis) Quino checkerspot butterfly (Euphydryas editha quino) | CA | Survey, locate and monitor nests, capture, handle, release, collect adult vouchers, and collect branchiopod resting eggs | Renew and amend.
082237 | California State Parks, San Luis Obispo Coast District, San Simeon, California | Morro Bay kangaroo rat (Dipodomys heermanni morroensis) | CA | Survey, capture, handle, and release | Renew.
PER4316473 | Scott Lindemann, Oakland, California | California tiger salamander (Ambystoma californiense) Sonoma County and Santa Barbara County distinct population segments | CA | Survey, capture, handle, and release | New.
PER0004121 | Mulligan Biological Consulting, San Diego, California | Quino checkerspot butterfly (Euphydryas editha quino) San Diego ambrosia (Ambrosia pumila) | CA | Pursue and remove and reduce to possession | Renew and amend.
83958B | Jared Elia, Concord, California | California tiger salamander (Ambystoma californiense) Sonoma County and Santa Barbara County distinct population segments Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA | Survey, capture, handle, release, and collect adult vouchers | Renew.
02474D | Gaylene Tupen, Lincoln, California | Conservancy fairy shrimp (Branchinecta conservatio) Longhorn fairy shrimp (Branchinecta longiantenna) Vernal pool tadpole shrimp (Lepidurus packardi) | CA | Survey, capture, handle, release, and collect adult vouchers | Renew.
PER4319678 | Bret Robinson, San Luis Obispo, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA | Survey, capture, handle, release, and collect adult vouchers | New.
99114C | RES Environmental Operating Company, LLC, Sacramento, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA, OR | Survey, capture, handle, release, and collect adult vouchers | Renew.
08087D | Jonathan Walker, San Diego, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA | Survey, capture, handle, release, and collect adult vouchers | Amend.
PER0121456 | Tara Collins, Penryn, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA | Survey, capture, handle, release, collect adult vouchers, and collect branchiopod resting eggs | Amend.
192702 | California State University Sacramento, Gold River, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA | Survey, capture, handle, release, collect adult vouchers, collect branchiopod resting eggs, and propagate | Renew and amend.
09375A | Laura Eliassen, Bradley, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA | Survey, capture, handle, release, collect adult vouchers, and collect branchiopod resting eggs | Renew.
063427 | Sarah Powell, Sacramento, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA | Survey, capture, handle, release, collect adult vouchers, and collect branchiopod resting eggs | Renew.
PER4325342 | Shaylea Stark, Clovis, California | California tiger salamander (Ambystoma californiense), Sonoma County and Santa Barbara County distinct population segments | CA | Survey, capture, handle, and release | New.
34132C | USDA Forest Service—Pacific Southwest Region, Vallejo, California | Foothill yellow-legged frog (Rana boylii) South Sierra and South Coast distinct population segments | CA | Survey, capture, handle, measure, take skin swabs, clip toes, insert PIT tags, transport, translocate, and release | Amend.
40087B | USDA Forest Service, Sonora, California | Foothill yellow-legged frog (Rana boylii) South Sierra and South Coast distinct population segments | CA | Survey, capture, handle, measure, take skin swabs, clip toes, insert PIT tags, transport, translocate, and release | Amend.
48210A | Area West Environmental, Inc., Orangevale, California | Foothill yellow-legged frog (Rana boylii) South Sierra and South Coast distinct population segments | CA | Survey, capture, handle, and release | Amend.
837574 | EREMICO Biological Services, LLC, Weldon, California | Inyo California towhee (Melozone crissalis eremophila) Southwestern willow flycatcher (Empidonax traillii extimus) | CA | Survey using recorded vocalizations | Renew.
98536C | Stillwater Sciences, Berkeley, California | Foothill yellow-legged frog (Rana boylii) South Sierra and South Coast distinct population segments | CA | Survey, capture, handle, and release | Amend.
778668 | Bryan Mori, Watsonville, California | Foothill yellow-legged frog (Rana boylii) South Sierra and South Coast distinct population segments | CA | Survey, capture, handle, and release | Amend.
60149A | California Department of Fish and Wildlife, Fortuna, California | Tidewater goby (Eucyclogobius newberryi) | CA | Survey, capture, hold, handle, measure, collect photographic vouchers, and release | Renew.
06873C | Environmental Science Associates, San Diego, California | Least Bell's vireo (Vireo bellii pusillus) Pacific pocket mouse (Perognathus longimembris pacificus) San Bernardino Merriam's kangaroo rat (Dipodomys merriami parvus) | CA | Survey, locate and monitor nests, capture, handle, and release | Amend.
166383 | Bureau of Land Managment, Hollister Field Office, Hollister, California | California tiger salamander (Ambystoma californiense), Sonoma County distinct population segment Blunt-nosed leopard lizard (Gambelia silus) | CA | Survey, capture, handle, take tissue samples, radio-tag, conduct thermal ecology assays, collect blood samples, PIT tagging, and release | Renew and amend.
095896 | Phillip Richards, Laguna Hills, California | Pacific pocket mouse (Perognathus longimembris pacificus) San Bernardino Merriam's kangaroo rat (Dipodomys merriami parvus) | CA | Survey, capture, handle, and release | Renew.
185595 | Kelly Bayne, Sacramento, California | California tiger salamander (Ambystoma californiense) Sonoma County and Santa Barbara County distinct population segments Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA | Survey, capture, handle, release, collect adult vouchers, and collect branchiopod resting eggs | Renew.
PER4207925 | Matt Shaffer, Rocklin, California | Conservancy fairy shrimp (Branchinecta conservatio) Longhorn fairy shrimp (Branchinecta longiantenna) Vernal pool tadpole shrimp (Lepidurus packardi) Riverside fairy shrimp (Streptocephalus woottoni) San Diego fairy shrimp (Branchinecta sandiegonensis) | CA | Survey, capture, handle, release, collect adult vouchers, and collect branchiopod resting eggs | Renew.
108507 | U.S. Fish and Wildlife Service, Sacramento, California | All endangered species in the Pacific Southwest Region | CA, NV, OR | All activities in furtherance of the U.S. Fish and Wildlife Service's mission to conserve endangered wildlife and plants and the ecosystems upon which they depend | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Rachel Henry,
Acting Regional Ecological Services Program Manager, Pacific Southwest Region, Sacramento, California.

[FR Doc. 2023-22278 Filed 10-5-23; 8:45 am]

BILLING CODE 4333-15-P